DEPARTMENT OF DEFENSE

Department of the Army, Corps of Engineers

33 CFR Part 334

RIN 0710-AA59

Department of Army, Fort Richardson AK, Small Arms Complex, Fort Wainwright, AK

AGENCY: United States Army Corps of Engineers, Department of Defense.

ACTION: Notice of proposed rulemaking and request for comments.

SUMMARY: The Corps of Engineers is proposing an amendment to its regulations to designate an existing military small arms impact area as a Danger Zone. The military exercise area is located within the Small Arms Complex of Fort Wainwright, Alaska, along the Tanana. The Danger Zone will only be activated by the United States Army Fort Wainwright, during live fire training exercises. The Army will advise residents in the vicinity when a military firing exercise is scheduled and thus ensure their safety by alerting them of, temporary, potentially hazardous conditions which may exist as a result of the military exercises. There will be no change in the use of the existing military exercise area. The area, however, needs to also be marked on navigation charts as a Danger Zone to insure security and safety for the public.

DATES: Written comments must be submitted on or before September 22, 2004.

ADDRESSES: U.S Army Corps of Engineers, ATTN: CECW-OR, 441 G Street, NW., Washington, DC 20314-1000.

FOR FURTHER INFORMATION CONTACT: Ms. Joanne M. Barry, Headquarters Regulatory Branch, Washington, DC at (202) 761-7763, or Mrs. Sheila Newman, Corps of Engineers, Alaska District, Regulatory Branch, at (907) 474-2166.

SUPPLEMENTARY INFORMATION: Pursuant to its authorities in section 7 of the Rivers and Harbors Act of 1917 (40 Stat. 266; 33 U.S.C. 1) and Chapter XIX, of the Army Appropriations Act of 1919 (40 Stat. 892; 33 U.S.C. 3), the Corps proposes to amend the restricted area regulations in 33 CFR part 334 by adding section 334.1301 as a Danger Zone along the Tanana River as shown in the attached description.

Procedural Requirements

a. Review under Executive Order 12866.

This proposed rule is issued with respect to a military function of the Defense Department and the provisions of Executive Order 12866 do not apply.

b. Review under the Regulatory Flexibility Act.

These proposed rules have been reviewed under the Regulatory Flexibility Act (Public Law 96-354) which requires the preparation of a regulatory flexibility analysis for any regulation that will have a significant economic impact on a substantial number of small entities (i.e., small businesses and small governments). The Corps expects that the economic impact of the identification of this danger zone would have practically no impact on the public, no anticipated navigational hazard or interference with existing waterway traffic and accordingly, certifies that this proposal if adopted, will have no significant economic impact on small entities.

c. Review under the National Environmental Policy Act.

A preliminary draft environmental assessment has been prepared for this action. Due to the administrative nature of this action and because there is no intended change in the use of the area, the Corps expects that this regulation, if adopted, will not have a significant impact to the quality of the human environment and, therefore, preparation of an environmental impact statement will not be required. The environmental assessment will be finalized after the public notice period is closed and all comments have been received and considered. It may be reviewed at the District office listed at the end of FOR FURTHER INFORMATION CONTACT, above.

d. Unfunded Mandates Act.

This proposed rule does not impose an enforceable duty among the private sector and, therefore, it is not a Federal private sector mandate and it is not subject to the requirements of either section 202 or section 205 of the Unfunded Mandates Act. We have also found under section 203 of the Act, that small governments will not be significantly and uniquely affected by this rulemaking.

List of Subjects in 33 CFR Part 334

Danger zones, Marine safety, Navigation (water), Restricted areas, Waterways.

For the reasons set out in the preamble, the Corps proposes to amend 33 CFR part 334, as follows:

PART 334—DANGER ZONE AND RESTRICTED AREA REGULATIONS

1. The authority citation for 33 CFR 334 continues to read as follows:

Authority: 40 Stat. 266 (33 U.S.C. 1) and 40 Stat. 892 (33 U.S.C. 3).

2. Section 334.1301 would be added to read as follows:

§ 334.1301 United States Army Danger Zone, Small Arms Complex, Fort Wainwright, Alaska along the Tanana River.

(a) The area. The waters within an area beginning at latitude 64° 79′ 37″N, longitude 147° 66′ 50″W; thence southerly to latitude 64° 77′ 98″N, longitude 147° 66′ 64″W; thence easterly along the shore line to latitude 64° 76′ 33″N, longitude 147° 57′ 42″W, thence northerly to latitude 64° 78′ 21″N, longitude 147° 57′ 46″W; thence westerly along the shorelines to the point of origin.

(b) The regulation. (1) During specific periods when military exercises will be conducted, as promulgated in the local notice to residents published by the United States Army, all vessels entering the Danger Zone are advised to proceed across the area by the most direct route and without unnecessary delay.

(2) During specific periods when Military exercises will be conducted, as promulgated in the local notice to residents published by the United States Army no vessel or craft of any size shall lie-to or anchor in the Danger Zone, other than a vessel operated by or for the USCG, or any other authorized agency.

(c) Normal use. At all other times, nothing in this section shall prohibit any lawful uses of this area.

(d) Enforcement. The regulation in this section shall be enforced by the Commanding Officer, Fort Richardson, Alaska, and/or persons or agencies as he/she may designate.

Dated: August 5, 2004.
Michael White,
Chief, Operations Division, Directorate of Civil Works.

[FR Doc. 04-19229 Filed 8-20-04; 8:45 am]

BILLING CODE 3710-92-P